DEPARTMENT OF THE INTERIOR

Bureau of Land Management

[A2407-014-004-065516, #O2509-014-004-125222;LLAK930000.L13100000.EI0000]

Notice of Availability of the 2025 Record of Decision for the Final Environmental Impact Statement for the National Petroleum Reserve—Alaska, Integrated Activity Plan

AGENCY: Bureau of Land Management, Interior.

ACTION: Notice of availability.

SUMMARY: The Bureau of Land Management (BLM), Alaska State Office, announces the availability of the record of decision (ROD) for the final environmental impact statement (EIS) for the National Petroleum Reserve—Alaska, Integrated Activity Plan (NPR-A IAP).

DATES: The Secretary of the Interior signed the ROD on December 22, 2025.

ADDRESSES: The ROD is available on the BLM ePlanning website at https://eplanning.blm.gov/eplanning-ui/project/117408/510.

FOR FURTHER INFORMATION CONTACT: Serena Sweet, BLM Alaska State Office Planning and Project Management Branch, phone 907-271-4543 or email, ssweet@blm.gov. Individuals in the United States who are deaf, deafblind, hard of hearing, or have a speech disability may dial 711 (TTY, TDD, or TeleBraille) to access telecommunications relay services for contacting Ms. Sweet. Individuals outside the United States should use the relay services within their country to make international calls to the point-of-contact in the United States.

SUPPLEMENTARY INFORMATION: The Naval Petroleum Reserves Production Act (NPRPA) of 1976 (42 U.S.C. 6501 et seq.), as amended, and its implementing regulations, require oil and gas leasing in the NPR-A and the protection of surface values to the extent consistent with the exploration, development, and transportation of oil and gas. The NPRPA, a dominant-use statute, excludes the NPR-A from the application of section 202 of the Federal Land Policy and Management Act of 1976 (43 U.S.C. 1712), as amended, which provides the statutory authority for the BLM to develop resource management plans to guide management of the public lands. Because of this exemption, the BLM conducts planning of all BLM-managed lands within the NPR-A with an IAP, which is not developed as a resource management plan and does not implement the multiple use mission otherwise applicable on BLM lands.

The ROD being noticed here completes the priorities set forth in sections 3(b)(xii) and (xiv) of Executive Order 14153, “Unleashing Alaska's Extraordinary Resource Potential.” In the ROD, the Secretary adopted alternative E as described and analyzed in the 2020 IAP EIS and the 2025 IAP environmental assessment. The ROD, effective immediately as the Department's operative decision for the NPR-A IAP, is consistent with section 50105 of Public Law 119-21 (known as the One Big Beautiful Bill Act), enacted July 4, 2025, and Public Law 119-47, enacted December 5, 2025, a joint resolution providing for congressional disapproval of the 2022 NPR-A IAP ROD under the Congressional Review Act, 5 U.S.C. 801-808.

(Authority: 42 U.S.C. 6501 et seq.)

Kevin J. Pendergast,
State Director, Alaska.

[FR Doc. 2026-03784 Filed 2-24-26; 8:45 am]

BILLING CODE 4331-10-P